DEPARTMENT OF AGRICULTURE

Agricultural Research Service

Notice of Intent To Renew Information Collection

AGENCY: Agricultural Research Service, USDA.

ACTION: Notice and Request for Comment.

SUMMARY: The United States Department of Agriculture (USDA), Agricultural Research Service (ARS) seeks comments on the intent of the United States National Arboretum (USNA) to renew an information collection that expires December 31, 2011. The information collection serves as a means to collect fees for certain uses of the facilities and grounds, and for programs and services. This includes fees for use of the grounds and facilities, as well as for commercial photography and cinematography. Fees generated will be used to defray USNA expenses or to promote the missions of the USNA.

DATES: Comments on this notice must be received by October 25, 2011 to be assured of consideration.

ADDRESSES: You may submit comments by any of the following methods:

• E-mail: colien.hefferan@ars.usda.gov.

• Fax: 202-245-4514.

• Mail: Director, U.S. National Arboretum, Beltsville Area, Agricultural Research Service, 3501 New York Avenue, NE., Washington, DC 20002.

• Hand Delivery/Courier: Director, U.S. National Arboretum, Beltsville Area, Agricultural Research Service, 3501 New York Avenue, NE., Washington, DC 20002.

SUPPLEMENTARY INFORMATION: Title: Use of Grounds and Facilities as well as Commercial Photography and Cinematography.

OMB Number: 0518-0032.

Expiration Date: 3 years from date of approval.

Type of Request: Renewal of approved information collection.

Abstract: The mission of the U.S National Arboretum (USNA) is to serve the public need for scientific research, education, and gardens that conserve and showcase plants to enhance the environment. The USNA is a 446-acre facility, open to the general public for purposes of education and passive recreation. The USNA receives approximately 550,000 visitors on the ground each year. Many garden clubs and societies utilize the USNA grounds to showcase their activities. The USNA is a national center for public education that welcomes visitors in a stimulating and aesthetically pleasing environment.

Section 890(b) of the Federal Agriculture Improvement and Reform Act of 1996, Public Law 104-127 (20 U.S.C. 196), expanded the authorities of the Secretary of Agriculture to charge reasonable fees for the use of USNA facilities and grounds. These authorities include the ability to charge reasonable fees for temporary use by individuals or groups of USNA facilities and grounds for any purpose consistent with the mission of the USNA. The Secretary also has the authority to charge reasonable fees for tram tours and for the use of the USNA for commercial photography and cinematography. All rules and regulations noted in 7 CFR 500, subpart 2A, will apply to individuals or groups granted approval to use the facilities and grounds. In order to administer the use of the USNA facilities and to determine if the requested use is consistent with the mission of the USNA, it is necessary for the USNA to obtain information from the requestor.

Each request will require the completion of an application and submission of an application fee. The application is simple and requires only information readily available to the requestor. The requestor is asked to indicate by whom and for what the purpose the USNA facilities are to be used. Applications are available in hard copy format as well as electronic format on the USNA Web site http://www.usna.usda.gov. Completed permit requests are received in person, by mail, and by facsimile.

Paperwork Reduction Act: In accordance with the Office of Management and Budget (OMB) Regulations (5 CFR part 1320) implementing the Paperwork Reduction Act of 1995 (44 U.S.C. Chapter 35), the information collection and recordkeeping requirements that will be imposed will be submitted to OMB for approval. These requirements will not become effective prior to OMB approval.

Estimate of Burden

Estimated Number of Responses: The USNA estimates 420 requests for the use of facilities and 25 requests for photography and cinematography. For each request, an e-mail is forwarded to the curator asking permission to use the facility. Once confirmation is received from the curator a reservation is placed on the calendar. A letter is written to the requestor confirming the use of the facility. There are times when a form is returned to the requestor and/or a follow-up telephone conversation may be necessary to request additional information. Each request takes approximately 30 minutes to process.

Estimated Total Annual Burden on Respondents: The total cost for responding is approximately $5,146 for 222.5 hours of time at $23 per hour.

Obtaining Permit Requests: In addition to the current process of obtaining and submitting the permit requests in person, by mail, and by facsimile, the application for photography and cinematography is available on the USNA Web site: http://www.usna.usda.gov/Information/facilities/photographyapp.pdf. The application for the use of facilities will be available on the Web site by the end of the calendar year. Completed permit requests can be submitted in person or by mail to the Administrative Office, USDA, ARS, U.S. National Arboretum, 3501 New York Avenue, NE., Washington, DC 20002. Permit requests can also be faxed to 202-447-2811.

Comments: Comments are invited on whether the proposed collection is necessary for the proper performance of the functions of the agency, including whether the information will have practical utility; the accuracy of the agency's estimate of the burden of the proposed collection of information, including the validity of the methodology and assumptions used; ways to enhance the quality, utility, and clarity of the information to be collected; and ways to minimize the burden of the collection on those who are to respond, including through the use of appropriate automated, electronic, mechanical, or other technical collection techniques or other forms of information technology, e.g., permitting electronic submission of responses.

Dated: August 8, 2011.
Edward Knipling,
Administrator, ARS.

[FR Doc. 2011-21847 Filed 8-25-11; 8:45 am]

BILLING CODE 3410-03-P